DEPARTMENT OF ENERGY

Federal Energy Regulatory Commission

Combined Notice of Filings #1

Take notice that the Commission received the following electric corporate filings:

Docket Numbers: EC25-88-000.

Applicants: Berkshire Hathaway Inc.

Description: Application for Authorization Under Section 203 of the Federal Power Act of Berkshire Hathaway Inc.

File Date: 5/15/25.

Accession Number: 20250515-5197.

Comment Date: 5 p.m. ET 6/5/25.

Take notice that the Commission received the following exempt wholesale generator filings:

Docket Numbers: EG25-328-000.

Applicants: Rumble Energy Storage, LLC.

Description: Rumble Energy Storage, LLC submits Notice of Self-Certification of Exempt Wholesale Generator Status.

Filed Date: 5/15/25.

Accession Number: 20250515-5181.

Comment Date: 5 p.m. ET 6/5/25.

Docket Numbers: EG25-329-000.

Applicants: Holtec Palisades, LLC.

Description: Holtec Palisades, LLC submits Notice of Self-Certification of Exempt Wholesale Generator Status.

Filed Date: 5/16/25.

Accession Number: 20250516-5108.

Comment Date: 5 p.m. ET 6/6/25.

Docket Numbers: EG25-330-000.

Applicants: Atlas VII, LLC.

Description: Atlas VII, LLC submits Notice of Self-Certification of Exempt Wholesale Generator Status.

Filed Date: 5/19/25.

Accession Number: 20250519-5134.

Comment Date: 5 p.m. ET 6/9/25.

Docket Numbers: EG25-331-000.

Applicants: Atlas IX, LLC.

Description: Atlas IX, LLC submits Notice of Self-Certification of Exempt Wholesale Generator Status.

Filed Date: 5/19/25.

Accession Number: 20250519-5136.

Comment Date: 5 p.m. ET 6/9/25.

Docket Numbers: EG25-332-000.

Applicants: Dodge County Wind, LLC.

Description: Dodge County Wind, LLC submits Notice of Self-Certification of Exempt Wholesale Generator Status.

Filed Date: 5/19/25.

Accession Number: 20250519-5188.

Comment Date: 5 p.m. ET 6/9/25.

Take notice that the Commission received the following Complaints and Compliance filings in EL Dockets:

Docket Numbers: EL25-81-000; QF25-796-001; QF25-797-001; QF25-800-001; QF16-365-005; QF16-379-005; QF16-381-004; QF16-382-004; QF16-369-005; QF21-661-002; QF16-366-004; QF24-367-002; QF24-368-002; QF24-369-001; QF24-370-001.

Applicants: Allco Finance Limited.

Description: Petition for Enforcement of Allco Finance Limited under EL25-81 et al.

Filed Date: 5/12/25.

Accession Number: 20250512-5217.

Comment Date: 5 p.m. ET 6/11/25.

Take notice that the Commission received the following electric rate filings:

Docket Numbers: ER23-1739-000; ER23-1740-000; ER23-1742-000; ER23-1743-000; ER23-1744-000; ER23-1745-000; ER23-1746-000; ER23-1747-000.

Applicants: Regulus Solar, LLC, Mesa Wind Power LLC, Imperial Valley Solar 1, LLC, Brookfield Renewable Trading and Marketing LP, Brookfield Renewable Energy Marketing US LLC, Brookfield Energy Marketing LP, Brookfield Energy Marketing Inc., AM Wind Repower LLC.

Description: Supplement to April 28, 2023, AM Wind Repower LLC. et al., submits tariff Notice of Non-Material Change in Status and Change in Category Seller Status.

Filed Date: 5/15/25.

Accession Number: 20250515-5190.

Comment Date: 5 p.m. ET 5/27/25.

Docket Numbers: ER24-756-002.

Applicants: Avista Corporation.

Description: Compliance filing: Avista FERC Order 2023 and 2023A Compliance Filing to be effective 3/20/2025.

Filed Date: 5/19/25.

Accession Number: 20250519-5131.

Comment Date: 5 p.m. ET 6/9/25.

Docket Numbers: ER24-2025-002.

Applicants: Wilderness Line Holdings, LLC.

Description: Compliance filing: Amendment to Order No. 2023 Second Compliance Filing to be effective 5/15/2024.

Filed Date: 5/19/25.

Accession Number: 20250519-5122.

Comment Date: 5 p.m. ET 5/29/25.

Docket Numbers: ER24-2036-001.

Applicants: Lucky Corridor, LLC.

Description: Compliance filing: Second Order No. 2023 Compliance Filing to be effective 6/18/2025.

Filed Date: 5/19/25.

Accession Number: 20250519-5064.

Comment Date: 5 p.m. ET 6/9/25.

Docket Numbers: ER24-2043-001.

Applicants: Basin Electric Power Cooperative.

Description: Compliance filing: Submission of Second Order No. 2023 Compliance Filing to be effective 7/15/2024.

Filed Date: 5/19/25.

Accession Number: 20250519-5159.

Comment Date: 5 p.m. ET 6/9/25.

Docket Numbers: ER25-2038-001.

Applicants: PJM Interconnection, L.L.C.

Description: Tariff Amendment: Amendment to MISO-PJM JOA, Article IX, sec 9.3 Affected System Filing to be effective 6/25/2025.

Filed Date: 5/19/25.

Accession Number: 20250519-5121.

Comment Date: 5 p.m. ET 6/9/25.

Docket Numbers: ER25-2040-001.

Applicants: Midcontinent Independent System Operator, Inc.

Description: Tariff Amendment: 2025-05-19_Amendment to MISO-PJM JOA re: Queue Priority and Coordination Rules to be effective 6/25/2025.

Filed Date: 5/19/25.

Accession Number: 20250519-5132.

Comment Date: 5 p.m. ET 6/9/25.

Docket Numbers: ER25-2256-000.

Applicants: American Transmission Systems, Incorporated.

Description: § 205(d) Rate Filing: ATSI submits Amended ECSA SA No. 7206 to be effective 7/19/2025.

Filed Date: 5/19/25.

Accession Number: 20250519-5003.

Comment Date: 5 p.m. ET 6/9/25.

Docket Numbers: ER25-2257-000.

Applicants: New York Independent System Operator, Inc.

Description: Request for Prospective Tariff Waiver of New York Independent System Operator, Inc.

Filed Date: 5/16/25.

Accession Number: 20250516-5223.

Comment Date: 5 p.m. ET 6/6/25.

Docket Numbers: ER25-2258-000.

Applicants: System Energy Resources, Inc.

Description: § 205(d) Rate Filing: UPSA Amendment to Reflect Revised Entitlements to be effective 10/1/2025.

Filed Date: 5/19/25.

Accession Number: 20250519-5045.

Comment Date: 5 p.m. ET 6/9/25.

Docket Numbers: ER25-2259-000.

Applicants: American Transmission Systems, Incorporated.

Description: § 205(d) Rate Filing: ATSI submits Amended ECSA SA No. 7172 to be effective 7/19/2025.

Filed Date: 5/19/25.

Accession Number: 20250519-5057.

Comment Date: 5 p.m. ET 6/9/25.

Docket Numbers: ER25-2260-000.

Applicants: Public Service Company of Colorado.

Description: § 205(d) Rate Filing: 2025-05-19—PSC-PI-2024-17-TW2-T.

Filed Date: 5/19/25.

Accession Number: 20250519-5088.

Comment Date: 5 p.m. ET 6/9/25.

Docket Numbers: ER25-2261-000.

Applicants: Southwest Power Pool, Inc.

Description: § 205(d) Rate Filing: Revisions to Modify the Mark-to-Auction Collateral Requirement for TCR Markets to be effective 5/1/2026.

Filed Date: 5/19/25.

Accession Number: 20250519-5109.

Comment Date: 5 p.m. ET 6/9/25.

Docket Numbers: ER25-2262-000.

Applicants: Indiana Michigan Power Company.

Description: Cancellation of Rate schedule No. 81 of Indiana Michigan Power Company.

Filed Date: 5/13/25.

Accession Number: 20250513-5183.

Comment Date: 5 p.m. ET 6/3/25.

Take notice that the Commission received the following qualifying facility filings:

Docket Numbers: QF25-826-000.

Applicants: Derry Township Municipal Authority.

Description: Form 556 of Derry Township Municipal Authority.

Filed Date: 5/15/25.

Accession Number: 20250515-5189.

Comment Date: 5 p.m. ET 6/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 19, 2025.
Carlos D. Clay,
Deputy Secretary.

[FR Doc. 2025-09332 Filed 5-22-25; 8:45 am]

BILLING CODE 6717-01-P